DEPARTMENT OF THE INTERIOR

Bureau of Ocean Energy Management

Notice of Availability of the Proposed Notice of Sale for Outer Continental Shelf (OCS) Oil and Gas Lease Sale 216/222 in the Central Planning Area (CPA) in the Gulf of Mexico

AGENCY: Bureau of Ocean Energy Management, Interior.

ACTION: Notice of Availability of the Proposed Notice of Sale for Proposed Sale 216/222.

SUMMARY: BOEM announces the availability of the proposed Notice of Sale (NOS) for proposed Sale 216/222 in the CPA. This Notice is published pursuant to 30 CFR 556.29(c) as a matter of information to the public. With regard to oil and gas leasing on the OCS, the Secretary of the Interior, pursuant to section 19 of the OCS Lands Act, provides the affected states the opportunity to review the proposed NOS. The proposed NOS sets forth the proposed terms and conditions of the sale, including minimum bids, royalty rates, and rentals.

DATES: Affected states may comment on the size, timing, and location of proposed Sale 216/222 within 60 days following their receipt of the proposed NOS. The final NOS will be published in the Federal Register at least 30 days prior to the date of bid opening. Bid opening is currently scheduled for June 20, 2012.

SUPPLEMENTARY INFORMATION: The proposed NOS for Sale 216/222 and a “Proposed Notice of Sale Package” containing information essential to potential bidders may be obtained from the Public Information Unit, Gulf of Mexico Region, Bureau of Ocean Energy Management, 1201 Elmwood Park Boulevard, New Orleans, Louisiana 70123-2394. Telephone: (504) 736-2519.

Agency Contact: Steven Textoris, Acting Leasing Division Chief, Steven.Textoris@boem.gov.

Dated: January 19, 2012.
Tommy P. Beaudreau,
Director, Bureau of Ocean Energy Management.

[FR Doc. 2012-1819 Filed 1-26-12; 8:45 am]

BILLING CODE 4310-VH-P